DEPARTMENT OF COMMERCE

National Oceanic and Atmospheric Administration

Agency Information Collection Activities; Submission to the Office of Management and Budget (OMB) for Review and Approval; Comment Request; Alaska Region Pacific Halibut Fisheries: Charter

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 02/24/2020 (85 FR 10413) during a 60-day comment period. This notice allows for an additional 30 days for public comments.

Agency: National Oceanic and Atmospheric Administration (NOAA).

Title: Alaska Region Pacific Halibut Fisheries: Charter.

OMB Control Number: 0648-0575.

Form Number(s): None.

Type of Request: Regular submission [extension of a current information collection, revision].

Number of Respondents: 656.

Average Hours per Response: 15 minutes for Application for Annual Registration of Charter Halibut Permits (CHPs); 0.5 hour for Application of Military CHP; 2 hours for Application for Transfer of CHP; 1.5 hours for Application for Transfer Between IFQ and GAF and Issuance of GAF Permit; 5 minutes for GAF Landing Report; 2 minutes for GAF Permit Log; 4 minutes for ADF&G Saltwater Sport Fishing Charter Trip Logbook; and 4 hours for Appeals.

Total Annual Burden Hours: 3,494 hours.

Needs and Uses: NMFS manages the charter halibut fishery off Alaska under the Charter Halibut Limited Access Program (CHLAP) and the Pacific Halibut Catch Sharing Plan (CSP). This collection of information is necessary for NMFS to manage and administer the charter halibut fishery under the CHLAP and the CSP, and to allow fishery participants to register, transfer, and utilize their fishery privileges and other program features. This collection is an essential part of the sustainable management of the Pacific halibut fishery off Alaska, and is an integral element of ensuring regulatory compliance in the charter halibut fishing sector. This request is for extension and revision of OMB Control No. 0648-0575, and will merge OMB Control No. 0648-0592 into this collection. As a result, 0648-0575 will now contain logbook reporting, landing reports, applications for permits and transfers, and administrative appeals for the charter halibut fishery.

Affected Public: Individuals; Business or other for-profit organizations; Not-for-profit institutions.

Frequency: Annually; As needed.

Respondent's Obligation: Voluntary; Required to Obtain or Retain Benefits.

Legal Authority: The Northern Pacific Halibut Act of 1982 (16 U.S.C. 773c) and the Magnuson-Stevens Fishery Conservation and Management Act (16 U.S.C. 1801 et seq).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0575.

Sheleen Dumas,
Department PRA Clearance Officer, Office of the Chief Information Officer, Commerce Department.

[FR Doc. 2020-14676 Filed 7-7-20; 8:45 am]

BILLING CODE 3510-22-P